DEPARTMENT OF EDUCATION

Advisory Committee on Student Financial Assistance

AGENCY: Advisory Committee on Student Financial Assistance, Education.

ACTION: Notice of announcement of simplification study.

SUMMARY: The Advisory Committee on Student Financial Assistance has been charged by Congress to conduct objective, nonpartisan, and independent analyses on important aspects of the student assistance programs under Title IV of the Higher Education Act. In addition, Congress expanded the Committee's agenda in the Higher Education Amendments of 1998 in several important areas: access, Title IV modernization, distance education, and early information and needs assessment. Specifically, the Committee is to review, monitor and evaluate the Department of Education's progress in these areas and report recommended improvements to Congress and the Secretary.

The FY 2004 Consolidated Appropriations Act (H.R. 2673), which was signed into law on January 23, 2004, directs the Advisory Committee to examine the Federal financial aid formula and application forms in order to simplify and streamline the programs to make the system easier, more responsive, and fairer for students and families. The Advisory Committee is well suited to conduct this study, drawing upon the expertise of its 11 members and its experience conducting other broad studies on financial aid issues. The Advisory Committee also has the particular mission of examining the impact of these issues on low- and moderate-income students, a specific goal of the study.

The legislative charge to the Advisory Committee calls for the study to be conducted in two phases resulting in an interim report and a final report. In executing the study, the Advisory Committee will:

• Examine options to simplify forms and reduce data elements;

• Address the student work penalty;

• Make recommendations on ways to measure the burden of state and local taxes on Expected Family Contribution (EFC);

• Discuss ways to provide students with an early notification of eligibility.

The interim report will be complete six months from the enactment of the bill and will focus on legislative recommendations. The second phase of the study, which will yield a final report one year from enactment, will address regulatory and administrative solutions to financial aid simplification. The Advisory Committee will consult with a wide range of interested parties, and will also consult a forms design expert.

The Advisory Committee initiated the simplification study with a hearing on February 5, 2004. At this hearing, the Advisory Committee heard from Congress, the Department of Education, members of the higher education community, and representatives of the early intervention and outreach community about their perspectives on simplification.

The Advisory Committee has two regional field hearings scheduled to gather additional feedback about financial aid simplification. The Advisory Committee will conduct hearings at the University of Illinois at Chicago (UIC) on March 30, 2004, and at the Fashion Institute of Design and Merchandising (FIDM), Los Angeles Campus, on April 15, 2004.

The Advisory Committee invites the public to submit written comments and recommendations to the following e-mail address: ADV_COMSFA@ed.gov. Information regarding the simplification study will also be available on the Advisory Committee's web site, http://www.ed.gov/ACSFA.

Study Questions and Goals

Can Federal Need Analysis Be Simplified and Improved?

• Can the methodology used to calculate the expected family contribution (EFC) be simplified without significant adverse effects on program intent, costs, integrity, delivery, and distribution of awards?

• Can the number of data elements, and, accordingly, the number and complexity of questions asked of students and families, used to calculate the EFC be reduced without significant adverse effects on program intent, costs, integrity, delivery, and distribution of awards?

• Are the procedures for determining the data elements used to calculate the EFC, including determining and updating offsets and allowances, the most efficient, effective, and fair means to determine a family's available income and assets?

• Is the methodology used to calculate the EFC, specifically the consideration of income earned by a dependent student and its effect on Pell Grant eligibility, an effective and fair means to determine a family's available income and a student's need?

Can Federal Student Air Delivery Be Streamlined and Improved?

• Can the nature and timing of the FAFSA, eligibility and award determination, financial aid processing, and funds delivery be streamlined further for students and families, institutions, and States?

• Is it feasible to allow students to complete only those limited sections of the FAFSA that apply to their specific circumstances and the State in which they reside?

• Can a widely disseminated printed form, or the use of an Internet or other electronic means, be developed to notify individuals of an estimation of their approximate eligibility for grant, work-study, and loan assistance upon completion and verification of the simplified application form?

• Can in formation provided on other Federal forms that are designed to determine eligibility for various Federal need-based assistance programs be used to qualify potential students for the simplified needs test?

This document is intended to notify the general public

DATES: We must receive your comments on or before April 23, 2004.

ADDRESSES: Send all comments about the simplification study to the Advisory Committee using the following email address: adv_COMSFA@ed.gov.

FOR FURTHER INFORMATION CONTACT: Dr. Brian K. Fitzgerald, Staff Director, Advisory Committee on Student Financial Assistance, Capitol Place, 80 F Street, NW., Suite 413, Washington, DC 20202-7582, (202) 219-2099.

Assistance to Individuals With Disabilities in Reviewing the Simplification Study

On request, we will supply an appropriate aid, such as a reader or print magnifier, to an individual with a disability who needs assistance to review comments or other documents. Although we will attempt to meet a request we receive, we may not be able to make available the requested auxiliary aid or service because of insufficient time to arrange it.

SUPPLEMENTARY INFORMATION: To ensure that your comments have maximum effect in developing the final recommendations to Congress and the Secretary of Education, we urge you to identify clearly the specific study questions and goals that each of your comments addresses and to arrange your comments in the same order as indicated in the study announcement.

During and after the comment period, you may inspect all public comments about the simplification study at Capitol Place, 80 F Street, NW., Suite 413, Washington, DC between 9 a.m. and 5:30 p.m., eastern time, Monday through Friday (excluding Federal holidays). You may also view comments on the Advisory Committee simplification study at http://www.ed.gov/ACSFA.

Dated: March 1, 2004.
Dr. Brian K. Fitzgerald,
Staff Director, Advisory Committee on Student Financial Assistance.

[FR Doc. 04-4900 Filed 3-4-04; 8:45 am]

BILLING CODE 4000-01-M